SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for revisions to OMB-approved information collections, extensions (no change) of OMB-approved information collections and new information collection requests.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB) Office of Management and Budget, Fax: 202-395-6974.

(SSA) Social Security Administration, DCFAM, Attn: Reports Clearance Officer, 1333 Annex Building, 6401 Security Blvd., Baltimore, MD 21235. Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Annual Registration Statement Identifying Separated Participants With Deferred Benefits, Schedule SSA—0960-0606

Schedule SSA is a form filed annually as part of a series of pension plan documents required by section 6057 of the IRS Code. Administrators of pension benefit plans are required to report specific information on future plan benefits for those participants who left plan coverage during the year. SSA maintains the information until a claim for Social Security benefits has been approved. At that time, SSA notifies the beneficiary of his/her potential eligibility for payments from the private pension plan. The respondents are administrators of pension benefit plans or their service providers employed to prepare the schedule SSA on behalf of the pension benefit plan. Below are the estimates of the cost and hour burdens for completing and filing schedule SSA(s). We have used an average to estimate the hour burden. However, the burden may be greater or smaller depending on whether the respondent is a large or small pension benefit plan and how many schedule SSA's are filed in a given year.

Type of Request: Extension of an OMB-approved information collection.

Number of Respondents: 88,000.

Frequency of Response: 1.

Average Burden Per Response: 2.5 hours.

Estimated Annual Burden: 220,000 hours.

Estimated Annual Cost Burden for all Respondents: $12,194,400.

2. Protection and Advocacy for Beneficiaries of Social Security (PABSS)—0960-NEW

Background

In August of 2004, SSA announced its intention to award grants to establish community-based protection and advocacy projects in every State and U.S. Territory, as authorized under section 1150 of the Social Security Act. Potential awardees were protection and advocacy organizations established under Title I of the Developmental Disabilities Assistance and Bill of Rights Act which submitted a timely application conforming to the requirements in the notice. The projects funded under this grant are part of SSA's strategy to increase the number of beneficiaries who return to work and achieve self-sufficiency as the result of receiving advocacy or other services. The overall goal of the program is to provide information and advice about obtaining vocational rehabilitation and employment services and to provide advocacy or other services that a beneficiary with a disability may need to secure, maintain, or regain gainful employment.

Collection Activities

The PABSS project collects identifying information from the project sites and benefits specialists. In addition, data are collected from the beneficiaries on background, employment, training, benefits, and work incentives. SSA uses the information to manage the program, with particular emphasis on contract administration, budgeting, and training.

SSA also uses the information to evaluate the efficacy of the program and to ensure that those dollars appropriated for PABSS services are being spent on SSA beneficiaries. The project data will be valuable to SSA in its analysis of and future planning for the Social Security Disability Insurance and Supplemental Security Income programs.

Type of Request: New information collection.

Title of collection | Number of annual responses | Frequency of response | Average burden per response (minutes) | Estimated annual burden hours
Site | 57 | 5 | 1.8 | 8.6
Specialist | 225 | 5 | 1.8 | 33.8
Beneficiary | 60,000 | 1 | 5.3 | 5,300
Total Estimated Annual Burden |  |  |  | 5,342

II. The information collections listed below have been submitted to OMB for clearance. Your comments on the information collections would be most useful if received by OMB and SSA within 30 days from the date of this publication. You can obtain a copy of the OMB clearance package by calling the SSA Reports Clearance Officer at 410-965-0454, or by writing to the address listed above.

Statement Regarding Date of Birth and Citizenship—20 CFR 404.716—0960-0016

Form SSA-702 collects information needed when preferred or other evidence is not available to prove age or citizenship for an individual applying for Social Security benefits. SSA uses this form for individuals who must establish age as a factor of entitlement or U.S. citizenship as a payment factor. Respondents are applicants for one or more Social Security benefits who need to establish their dates of birth as a factor of entitlement or U.S. citizenship as a factor of payment.

Type of Request: Extension of an OMB-approved information collection.

Number of Respondents: 1,200.

Frequency of Response: 1.

Average Burden Per Response: 10 minutes.

Estimated Annual Burden: 200 hours.

National Direct Deposit Initiative—31 CFR 210—0960-NEW

Many recipients of social security benefits choose to receive their payments via the Direct Deposit Program, in which funds are transferred directly into recipients' accounts at a financial institution (FI). However, 8 million Title II payment recipients still receive their payments through traditional paper checks. In an effort to encourage these beneficiaries to change from paper checks to the Direct Deposit Program, SSA is collaborating with the Department of the Treasury and several FIs to implement the National Direct Deposit Initiative. In this program, SSA will work with FIs to determine which of the target 8 million Title II beneficiaries have accounts at the participating banks. The banks will then send forms to these beneficiaries encouraging them to enroll in the Direct Deposit Program. The respondents are the participating FIs and Title II beneficiaries currently receiving their payments via check.

Type of Request: New information collection.

Note: Please note that in the 60-day Federal Register Notice (published on May 13, 2005 at 70 FR 25643) we reported different data for the number of respondents, total burden, and cost burden. Since that time, SSA has received updated information on these categories. The new numbers in the chart below reflect the updated data.

Respondents | Information collection requirement | Number of respondents | Frequency of response | Average burden per response (minutes) | Estimated annual burden (hours) | Cost requirement | Estimated cost burden per respondent | Total annual cost burden
Title II Payment Recipients | Direct Deposit Enrollment Form | 100,000 | 1 | 2 | 3,333 | N/A | N/A | N/A
Financial Institutions (banks) | Data screening/matching activities; SSA's data management requirements | 10 | 1 | 240 | 40 | Printing and mailing of 100,000 Enrollment Forms | $1,039 | $10,390
Totals |  | 110,000 |  |  | 3,373 |  |  | 10,390

Dated: August 8, 2005.
Elizabeth A. Davidson,
Reports Clearance Officer, Social Security Administration.

[FR Doc. 05-15963 Filed 8-10-05; 8:45 am]

BILLING CODE 4191-02-P